DEPARTMENT OF COMMERCE

National Oceanic and Atmospheric Administration

50 CFR Part 622

[Docket No. 050708183-5183-01; I.D. 070505D]

RIN 0648-AT45

Fisheries of the Caribbean, Gulf of Mexico, and South Atlantic; Reef Fish Fishery of the Gulf of Mexico; Gulf Grouper Recreational Management Measures

AGENCY: National Marine Fisheries Service (NMFS), National Oceanic and Atmospheric Administration (NOAA), Commerce.

ACTION: Temporary rule; interim measures; request for comments.

SUMMARY: This temporary rule implements management measures for the recreational grouper fishery in the exclusive economic zone (EEZ) of the Gulf of Mexico, as requested by the Gulf of Mexico Fishery Management Council (Council), to reduce overfishing of red grouper. This rule establishes a seasonal closure of the recreational fishery for all Gulf grouper species and reduces both the recreational bag limit for red grouper and the aggregate grouper bag limit. The intended effects are to reduce overfishing of red grouper in the Gulf of Mexico and to minimize potential adverse impacts on other grouper stocks that could result from a shift in fishing effort from red grouper to other grouper species.

DATES: This rule is effective August 9, 2005 through January 23, 2006.

Comments must be received no later than 5 p.m., eastern standard time, on August 24, 2005.

ADDRESSES: You may submit comments on this temporary rule by any of the following methods:

• E-mail: 0648-AT45.Interim@noaa.gov. Include in the subject line the following document identifier: 0648-AT45.

• Federal e-Rulemaking Portal: http://www.regulations.gov. Follow the instructions for submitting comments.

• Mail: Phil Steele, Southeast Regional Office, NMFS, 263 13th Avenue South, St. Petersburg, FL 33701.

• Fax: 727-824-5308; Attention: Phil Steele.

Requests for copies of documents supporting this rule may be obtained from the Southeast Regional Office, NMFS, 263 13th Avenue South, St. Petersburg, FL 33701.

FOR FURTHER INFORMATION CONTACT: Phil Steele, telephone: 727-551-5784; fax: 727-824-5308; e-mail: phil.steele@noaa.gov.

SUPPLEMENTARY INFORMATION: The reef fish fishery of the Gulf of Mexico is managed under the Fishery Management Plan for the Reef Fish Resources of the Gulf of Mexico (FMP). The FMP was prepared by the Council and is implemented under the authority of the Magnuson-Stevens Fishery Conservation and Management Act (Magnuson-Stevens Act) by regulations at 50 CFR part 622.

Background

In October 2000, based on the results of a 1999 stock assessment, NMFS declared the red grouper stock overfished and undergoing overfishing. The 2002 stock assessment indicated the red grouper stock was in an improved condition and no longer overfished. However, the stock had not yet reached the biomass level (BMSY) that is capable of producing maximum sustainable yield on a continuing basis. Therefore, a rebuilding plan was still necessary to restore the stock to the BMSY level in 10 years or less. On June 15, 2004, NMFS implemented Secretarial Amendment 1 to the FMP to end overfishing of red grouper and rebuild the stock. The amendment established a commercial quota, a 2-fish recreational bag limit, and a 10-year rebuilding plan for red grouper. In addition, the amendment reduced the shallow-water and deep-water grouper commercial quotas and provided for closure of the entire commercial shallow-water grouper fishery when either the commercial shallow-water quota or commercial red grouper quota is reached.

The 10-year red grouper rebuilding plan is based on a stepped rebuilding strategy. During the first 3-year interval (2003-2005) of the plan, the allowable biological catch (ABC) is 6.56 million lb (2.98 million kg) gutted weight (GW), which equates approximately to a 9.4-percent reduction in both commercial and recreational landings compared to the average landings during 1999-2001. Based on historical landings, the commercial fishery would account for 81 percent of the ABC (5.31 million lb (2.41 million kg)), and the recreational fishery would account for 19 percent (1.25 million lb (0.57 million kg)). In both 2003 and 2004, recreational red grouper landings exceeded the 1.25-million lb (0.57-million kg) GW target level, while commercial landings were less than the 5.31-million lb (2.41-million kg) GW commercial quota. Recreational landings in 2003 were only slightly greater than the target level and totaled 1.35 million lb (0.61 million kg) GW. However, in 2004, recreational landings were nearly 2.5 times greater than the recreational target level, totaling 3.10 million lb (1.4 million kg) GW.

During the March 7-10, 2005, Council meeting, the Council reviewed red grouper landings and concluded that without additional regulations recreational red grouper landings in 2005 are again likely to exceed the recreational target level. Based on average recreational landings during 2003 and 2004, it is estimated that as much as a 43-percent reduction in recreational red grouper landings is needed to end overfishing in 2005. Although the Council intends to consider permanent recreational management measures as part of a regulatory amendment in 2006, action is needed in the interim to reduce recreational red grouper landings in 2005. The Council passed a motion and subsequently submitted a letter requesting NMFS to implement an interim rule to reduce the 2005 recreational red grouper catch to levels consistent with the rebuilding plan specified in Secretarial Amendment 1.

Provisions of This Temporary Rule

The purpose of this temporary rule is to reduce the likelihood of overfishing red grouper, while minimizing biological impacts on gag and other groupers that could result from shifts in effort due to red grouper management actions. To achieve this objective, this temporary rule reduces the red grouper bag limit, reduces the aggregate grouper bag limit, and establishes a seasonal closure of the recreational fishery for all groupers. These provisions apply to the respective species in or from the exclusive economic zone (i.e., Federal waters) of the Gulf of Mexico.

Reduction of the Red Grouper Bag Limit, Combined With a Seasonal Closure of the Recreational Grouper Fishery

This temporary rule reduces the red grouper bag limit from 2 fish per person per day to 1 fish per person per day and establishes a closure of the recreational fishery, from November through December 2005, for all grouper species. The combined effect of these measures will reduce red grouper recreational harvest by 21.5 percent and will reduce recreational harvest of other grouper by 17.8 percent. Because red grouper are part of a multispecies fishery, prohibiting harvest of all groupers during the seasonal closure will reduce bycatch of red grouper and subsequent discard mortality. Applying the closure to all groupers will also protect other grouper species from a potential shift of fishing effort from red grouper to other groupers.

Reduction of the Aggregate Grouper Bag Limit

The aggregate grouper bag limit applies to all groupers, except goliath grouper (formerly jewfish) and Nassau grouper, for which no harvest is allowed. Within the aggregate bag limit, further limitations apply to possession of red grouper, speckled hind, and warsaw grouper. This temporary rule reduces the aggregate bag limit to 3 grouper, combined, per person per day, excluding Goliath grouper and Nassau grouper, but not to exceed 1 speckled hind or 1 warsaw grouper per vessel per day, or 1 red grouper per person per day. Note that this also incorporates the red grouper bag limit reduction discussed previously. Prior to this temporary rule, the aggregate bag limit was 5 grouper, combined, per person per day, excluding Goliath grouper and Nassau grouper, but not to exceed 1 speckled hind or 1 warsaw grouper per vessel per day or 2 red grouper per person per day. The effect of this reduction in the aggregate bag limit is a 5.2-percent reduction in recreational harvest of groupers other than red grouper. The reduction in the aggregate bag limit will provide protection to other grouper species from redirected red grouper fishing effort and may reduce bycatch mortality of red grouper, assuming anglers cease fishing when the aggregate limit is reached.

Future Action

NMFS finds that this temporary rule is necessary to reduce overfishing of red grouper in the Gulf of Mexico. NMFS issues this temporary rule, effective for not more than 180 days, as authorized by section 305(c) of the Magnuson-Stevens Act. This interim rule may be extended for an additional 180 days, provided that the public has had an opportunity to comment on the interim rule and provided that the Council is actively preparing proposed regulations to address this overfishing on a permanent basis. Public comments on this interim rule are invited and will be considered in determining whether to maintain or extend this rule to address overfishing of red grouper. The Council is preparing a regulatory amendment under the FMP framework procedure to address, on a permanent basis, red grouper overfishing issues that are the subject of this rule.

Classification

The Assistant Administrator for Fisheries, NOAA (AA), has determined that this temporary rule is necessary to reduce overfishing of red grouper in the Gulf of Mexico and is consistent with the Magnuson-Stevens Act and other applicable laws.

This temporary rule has been determined to be not significant for purposes of Executive Order 12866.

This temporary rule is exempt from the procedures of the Regulatory Flexibility Act because the rule is issued without opportunity for prior notice and public comment.

This temporary rule addresses overfishing. Delaying action to reduce overfishing in the red grouper fishery of the Gulf of Mexico to provide further notice and an opportunity for public comment prior to implementation would increase the likelihood of a loss of long-term productivity from the fishery and increase the probable need for more severe restrictions in the future. Recreational red grouper landings during January through December 2004 totaled 3.10 million lb. (1.5 million kg), which exceeded the target catch level of 1.25 million lb. (0.6 million kg). These landings data were not fully analyzed and verified until early 2005, when complete landings data for 2004 had been collected. Therefore, there was no basis to assume the target catch level would be exceeded in 2005. Once landings for 2004 had been verified, NMFS determined that this interim rule was necessary to address overfishing. Based on the new information and other information regarding landings trends, recreational landings are now estimated to range from 1.66 million lb. (0.75 million kg) to 2.10 million lb. (0.95 million kg), which is potentially well in excess of the 1.25 million lb. (0.6 million kg) target catch level. Therefore there is a need to implement these measures in a timely fashion to reduce the potential recreational harvest and prevent an overrun of the recreational target catch level.

Accordingly, under authority set forth at 5 U.S.C. 553(b)(B), the AA finds, for good cause, namely the reasons set forth above, that providing prior notice and the opportunity for prior public comment would be contrary to the public interest. Similarly, the need to implement these measures in a timely manner for the reasons stated above constitutes good cause under authority contained in 5 U.S.C. 553(b)(B) to establish an effective date less than 30 days after date of publication. To provide adequate time to inform the recreational fishing sector of the impending changes in bag limits and the closed season and to allow recreational fishers to plan and adjust their fishing activities accordingly, the effective date of this rule will be delayed until 15 days after the date of publication of this rule in the Federal Register.

List of Subjects in 50 CFR Part 622

Fisheries, Fishing, Puerto Rico, Reporting and recordkeeping requirements, Virgin Islands.

Dated: July 20, 2005.
William T. Hogarth,
Assistant Administrator for Fisheries, National Marine Fisheries Service.

For the reasons set out in the preamble, 50 CFR part 622 is amended as follows:

PART 622—FISHERIES OF THE CARIBBEAN, GULF, AND SOUTH ATLANTIC

1. The authority citation for part 622 continues to read as follows:

Authority: 16 U.S.C. 1801 et seq.

2. In § 622.34, paragraph (q) is added to read as follows:

§ 622.34 Gulf EEZ seasonal and/or area closures.

* * * * *

(q) Seasonal closure of the recreational fishery for groupers. The recreational fishery for any grouper species in or from the Gulf EEZ is closed from November through December 2005. During this closure, the bag and possession limit for groupers in or from the Gulf EEZ is zero.

3. In § 622.39, paragraphs (b)(1)(ii) and (b)(1)(v) are suspended and paragraphs (b)(1)(viii) and (b)(1)(ix) are added to read as follows:

§ 622.39 Bag and possession limits.

* * * * *

(b) * * *

(1) * * *

(viii) Groupers, combined, excluding goliath grouper and Nassau grouper—3 per person per day, but not to exceed 1 speckled hind or 1 warsaw grouper per vessel per day or 1 red grouper per person per day.

(ix) Gulf reef fish, combined, excluding those specified in paragraphs (b)(1)(i), (iii), (iv), (vi), (vii), and (viii) of this section and excluding dwarf sand perch and sand perch—20.

* * * * *

4. In § 622.43, paragraph (a)(1)(i) is suspended and paragraph (a)(1)(iii) is added to read as follows:

§ 622.43 Closures.

(a) * * *

(1) * * *

(iii) Commercial quotas. If the recreational fishery for the indicated species is open, the bag and possession limits specified in § 622.39(b) apply to all harvest or possession in or from the Gulf EEZ of the indicated species, and the sale or purchase of the indicated species taken from the Gulf EEZ is prohibited. In addition, the bag and possession limits for red snapper, when applicable, apply on board a vessel for which a commercial permit for Gulf reef fish has been issued, as required under § 622.4(a)(2)(v), without regard to where such red snapper were harvested. If the recreational fishery for the indicated species is closed, all harvest or possession in or from the Gulf EEZ of the indicated species is prohibited.

* * * * *

[FR Doc. 05-14604 Filed 7-20-05; 3:19 pm]

BILLING CODE 3510-22-P